DEPARTMENT OF TRANSPORTATION

Federal Aviation Administration

14 CFR Part 39

[Docket No. FAA-2020-0885; Project Identifier MCAI-2020-00997-A]

RIN 2120-AA64

Airworthiness Directives; Pilatus Aircraft Ltd. Airplanes

AGENCY: Federal Aviation Administration (FAA), DOT.

ACTION: Notice of proposed rulemaking (NPRM).

SUMMARY: The FAA proposes to adopt a new airworthiness directive (AD) for certain Pilatus Aircraft Ltd. (Pilatus) Model PC-24 airplanes. This proposed AD results from mandatory continuing airworthiness information (MCAI) originated by an aviation authority of another country to identify and correct an unsafe condition on an aviation product. The MCAI identifies the unsafe condition as improperly manufactured cockpit and cabin evaporator filters installed during production on some PC-24 airplanes. The FAA is proposing this AD to address the unsafe condition on these products.

DATES: The FAA must receive comments on this proposed AD by January 7, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

• For service information identified in this NPRM, contact Pilatus Aircraft Ltd., CH-6371 Stans, Switzerland; telephone: +41 848 24 7 365; email: techsupport.ch@pilatus-aircraft.com; internet: https://www.pilatus-aircraft.com/. You may view this service information at the FAA, Airworthiness Products Section, Operational Safety Branch, 901 Locust, Kansas City, MO 64106. For information on the availability of this material at the FAA, call 816-329-4148. It is also available on the internet at https://www.regulations.gov by searching for and locating Docket No. FAA-2020-0885.

Examining the AD Docket

You may examine the AD docket on the internet at https://www.regulations.gov by searching for and locating Docket No. FAA-2020-0885; or in person at Docket Operations between 9 a.m. and 5 p.m., Monday through Friday, except Federal holidays. The AD docket contains this NPRM, the MCAI, any comments received, and other information. The street address for Docket Operations is listed above. Comments will be available in the AD docket shortly after receipt.

FOR FURTHER INFORMATION CONTACT: Doug Rudolph, Aerospace Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Comments Invited

The FAA invites you to send any written relevant data, views, or arguments about this proposal. Send your comments to an address listed under ADDRESSES. Include “Docket No. FAA-2020-0885; Project Identifier MCAI-2020-00997-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aerospace Engineer, FAA, General Aviation & Rotorcraft Section, International Validation Branch, 901 Locust, Room 301, Kansas City, Missouri 64106; telephone: (816) 329-4059; fax: (816) 329-4090; email: doug.rudolph@faa.gov. Any commentary that the FAA receives which is not specifically designated as CBI will be placed in the public docket for this rulemaking.

Background

The European Union Aviation Safety Agency (EASA), which is the Technical Agent for the Member States of the European Community, has issued EASA AD 2020-0160, dated July 16, 2020 (referred to after this as “the MCAI”), to address the unsafe condition on Pilatus Model PC-24 airplanes. The MCAI states:

An occurrence was reported where, during production, cockpit and cabin evaporator filters were installed on some PC-24 aeroplanes, which were not the proper parts for the affected configuration.

This condition, if not corrected, could degrade the fire retardant properties of the filters, possibly resulting in an increase in smoke in the cockpit/cabin in case of electrical heater over-temperature.

To address this potential unsafe condition, Pilatus issued the [service bulletin] SB to provide replacement instructions.

For the reason described above, this AD requires replacement of affected parts with serviceable parts, as defined in this [EASA] AD, and prohibits (re) installation of affected parts.

Due to a quality escape, the fire retardant used in the original filters installed in production is not sufficient for the conditions in this configuration, which is close to the heater and blowers.

You may obtain further information by examining the MCAI in the AD docket on the internet at https://www.regulations.gov by searching for and locating Docket No. FAA-2020-0885.

Related Service Information Under 1 CFR Part 51

The FAA reviewed Pilatus PC-24 Service Bulletin No. 21-006, dated April 3, 2020. The service information specifies procedures to replace the cockpit and cabin evaporator filters with new filters contained in a modification kit. This service information is reasonably available because the interested parties have access to it through their normal course of business or by the means identified in the ADDRESSES section.

FAA's Determination and Requirements of the Proposed AD

This product has been approved by the aviation authority of another country and is approved for operation in the United States. Pursuant to our bilateral agreement with this State of Design Authority, it has notified the FAA of the unsafe condition described in the MCAI and service information referenced above. The FAA is proposing this AD because the FAA determined the unsafe condition exists and is likely to exist or develop on other products of the same type design.

Differences Between This Proposed AD and the MCAI

This proposed AD would apply to airplanes with a defective filter installed, whereas the EASA AD applies to airplanes that do not have the modification kit, which was installed in production. The proposed AD identifies the individual part numbers (P/Ns) of the defective filters to address any airplanes that may have had a modification kit filter replaced with a defective filter in the field before this proposed AD becomes effective. The proposed AD would also apply to airplanes with a filter where the P/N is unknown. Pilatus advises that the defective filters can only be identified by their packing documents, as they do not have a permanent P/N marked on the actual part. The new filters in the modification kit do have a permanent marking on the frame of the actual part.

Costs of Compliance

The FAA estimates that this AD, if adopted as proposed, would affect 36 airplanes of U.S. registry. The FAA also estimates that it would take 2.5 work-hours per product to comply with the requirements of this proposed AD. The average labor rate is $85 per work-hour. Required parts would cost about $575 per product, if all 4 filters would need to be replaced.

Based on these figures, the FAA estimates the cost of this proposed AD on U.S. operators to be $28,350, or $787.50 per product.

The FAA has included all costs in this cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pilatus Aircraft Ltd.: Docket No. FAA-2020-0885; Project Identifier MCAI-2020-00997-A.

(a) Comments Due Date

The FAA must receive comments on this airworthiness directive (AD) by January 7, 2021.

(b) Affected ADs

None.

(c) Applicability

This AD applies to Pilatus Aircraft Ltd. PC-24 airplanes, all serial numbers, certificated in any category, with any of the following evaporator filter assemblies installed, or if the part number (P/N) of the evaporator filter assembly is unknown:

(1) Cockpit filter assembly P/N 959.90.20.291 (PC24EC-6068-1);

(2) Cabin front filter assembly P/N 959.90.20.290 (PC24EC-6287-1);

(3) Cabin bottom filter assembly P/N 959.90.20.288 (PC24EC-6288-1); or

(4) Cabin top filter assembly P/N 959.90.20.289 (PC24EC-6297-1).

Note: The P/N in parenthesis is an alternative vendor P/N.

(d) Subject

Joint Aircraft System Component (JASC) Code 2100, AIR CONDITIONING SYSTEM.

(e) Unsafe Condition

This AD was prompted by a reported occurrence where, during production, cockpit and cabin evaporator filters produced with degraded fire retardant properties were installed on some Model PC-24 airplanes. The FAA is issuing this AD to detect improper cockpit and cabin evaporator filters installed on Model PC-24 airplanes. The unsafe condition, if not addressed, could result in filters with degraded fire retardant properties, resulting in smoke in the cockpit and cabin in the event of electrical heater over-temperature.

(f) Actions and Compliance

(1) Within 4 months after the effective date of this AD, unless already done, remove each filter assembly from service and replace with a filter assembly as specified in table 1 to paragraph (f)(1) of this AD by following the Accomplishment Instructions, sections 3A. through 3C., of Pilatus PC-24 Service Bulletin No. 21-006, dated April 3, 2020.

(2) As of the effective date of this AD, do not install an evaporator filter assembly with a P/N listed in paragraph (c) of this AD on any airplane.

(g) Alternative Methods of Compliance (AMOCs)

The Manager, General Aviation & Rotorcraft Section, International Validation Branch, FAA, has the authority to approve AMOCs for this AD, if requested using the procedures found in 14 CFR 39.19. Send information to ATTN: Doug Rudolph, Aerospace Engineer, FAA, General Aviation & Rotorcraft Section, International Validation Branch, 901 Locust, Room 301, Kansas City, Missouri 64106; telephone: (816) 329-4059; fax: (816) 329-4090; email: doug.rudolph@faa.gov. Before using any approved AMOC, notify your appropriate principal inspector, or lacking a principal inspector, the manager of the local flight standards district office/certificate holding district office.

(h) Related Information

Refer to European Union Aviation Safety Agency (EASA) AD No. 2020-0160, dated July 16, 2020, for more information. You may examine the EASA AD in the AD docket on the internet at https://www.regulations.gov by searching for and locating it in Docket No. FAA-2020-0885. For service information identified in this AD, contact Pilatus Aircraft Ltd., CH-6371 Stans, Switzerland; telephone: +41 848 24 7 365; email: techsupport.ch@pilatus-aircraft.com; internet: https://www.pilatus-aircraft.com/. You may review this referenced service information at the FAA, Airworthiness Products Section, Operational Safety Branch, 901 Locust, Kansas City, Missouri 64106. For information on the availability of this material at the FAA, call (816) 329-4148.

Issued on November 13, 2020.
Lance T. Gant,
Director, Compliance & Airworthiness Division, Aircraft Certification Service.

[FR Doc. 2020-25545 Filed 11-20-20; 8:45 am]

BILLING CODE 4910-13-P